DEPARTMENT OF HOUSING AND URBAN DEVELOPMENT

[Docket No. FR-5300-N-10]

Notice of Availability: Notice of Funding Availability (NOFA) for HUD's Fiscal Year (FY) 2009 Fair Housing Initiatives Program (FHIP)

AGENCY: Office of the Assistant Secretary for Fair Housing and Equal Opportunity, HUD.

ACTION: Notice.

SUMMARY: HUD announces the availability on its website of the application information, submission deadlines, funding criteria, and other requirements for the FY2009 Fair Housing Initiatives Program (FHIP). The NOFA makes approximately $26.3 million available under the Department of Housing and Urban Development Appropriations Act 2009 (Public Law 111-8, approved March 11, 2009) to investigate allegations of housing discrimination and to educate the public and the housing industry about their rights and responsibilities under the Fair Housing Act. The notice providing information regarding the application process, funding criteria and eligibility requirements is available on the Grants.gov Web site at https://apply07.grants.gov/apply/forms/_apps_idx.html. A link to Grants.gov is also available on the HUD Web site at http://www.hud.gov/offices/adm/grants/fundsavail.cfm. The Catalogue of Federal Domestic Assistance (CFDA) number for the Fair Housing Initiatives Program is 14.408. Applications must be submitted electronically through Grants.gov.

FOR FURTHER INFORMATION CONTACT: Questions regarding specific program requirements should be directed to the agency contact identified in the program NOFA. Questions regarding the 2009 General Section should be directed to the Office of Departmental Grants Management and Oversight at 202-708-0667 (this is not a toll-free number) or the NOFA Information Center at 1-800-HUD-8929 (toll-free). Persons with hearing or speech impairments may access these numbers via TTY by calling the Federal Information Relay Service at 1-800-877-8339. The NOFA Information Center is open between the hours of 10 a.m. and 6:30 p.m. eastern time, Monday through Friday, except Federal holidays.

Dated: July 1, 2009.
John Trasviña,
Assistant Secretary for Fair Housing and Equal Opportunity.

[FR Doc. E9-18035 Filed 7-24-09; 4:15 pm]

BILLING CODE 4210-67-P